SECURITIES AND EXCHANGE COMMISSION

[File No. 500-1]

Order of Suspension of Trading

June 7, 2011.

IN THE MATTER OF AMERICAN PACIFIC RIM COMMERCE GROUP; ANYWHERE MD, INC.; CALYPSO WIRELESS, INC.; CASCADIA INVESTMENTS, INC.; CYTOGENIX, INC.; EMERGING HEALTHCARE SOLUTIONS, INC.; EVOLUTION SOLAR CORPORATION; GLOBAL RESOURCE CORPORATION; GO SOLAR USA, INC.; KORE NUTRITION, INC.; LAIDLAW ENERGY GROUP, INC.; MIND TECHNOLOGIES, INC.; MONTVALE TECHNOLOGIES, INC.; MSGI TECHNOLOGY SOLUTIONS, INC. (F/K/A MGSI SECURITY SOLUTIONS, INC.); PRIME STAR GROUP, INC.; SOLAR PARK INITIATIVES, INC.; UNITED STATES OIL & GAS CORPORATION

It appears to the Securities and Exchange Commission that there is a lack of current and accurate information concerning the securities of the issuers listed below. As set forth below for each issuer, questions have arisen regarding the accuracy of publicly disseminated information, concerning, among other things: (1) The company's assets; (2) the company's business operations; (3) the company's current financial condition; and/or (4) issuances of shares in company stock.

1. American Pacific Rim Commerce Group is a California corporation based in Florida. Questions have arisen concerning the adequacy and accuracy of press releases concerning the company's revenues.

2. Anywhere MD, Inc. is a Nevada corporation with its principal place of business in California. Questions have arisen concerning the adequacy and accuracy of publicly available information about the company.

3. Calypso Wireless, Inc. is a Delaware corporation based in Texas. Questions have arisen concerning the adequacy of publicly available information about the company.

4. Cascadia Investments, Inc. is a Nevada corporation based in Washington State. Questions have arisen concerning the adequacy and accuracy of press releases concerning the company's operations and assets.

5. CytoGenix, Inc. is a Nevada corporation based in Texas. Questions have arisen concerning the adequacy and accuracy of press releases concerning the company's operations and financing transactions.

6. Emerging Healthcare Solutions, Inc. is a Wyoming corporation based in Texas. Questions have arisen concerning the adequacy and accuracy of press releases concerning the company's operations and assets.

7. Evolution Solar Corporation is a Colorado corporation based in Arizona. Questions have arisen concerning the adequacy and accuracy of the company's Web site and press releases concerning the company's operations and revenues.

8. Global Resource Corporation is a Nevada corporation based in North Carolina. Questions have arisen concerning the adequacy and accuracy of press releases concerning the company's operations and the adequacy of publicly available information about the company.

9. Go Solar USA, Inc. is a Nevada corporation based in Louisiana. Questions have arisen concerning the adequacy and accuracy of press releases concerning the company's products and operations.

10. Kore Nutrition, Inc. is a Nevada corporation based in Nevada. Questions have arisen concerning the adequacy and accuracy of press releases concerning the company's operations.

11. Laidlaw Energy Group, Inc. is a New York corporation based in New York. Questions have arisen concerning the adequacy and accuracy of press releases concerning the company's operations, the accuracy of its financial statements, and stock promoting activity by the company.

12. Mind Technologies, Inc. is a Nevada corporation based in California. Questions have arisen concerning the accuracy of its financial statements.

13. Montvale Technologies, Inc. is a New Jersey corporation based in New Jersey. Questions have arisen concerning the adequacy and accuracy of publicly available information about the company.

14. MSGI Technology Solutions, Inc. (f/k/a MSGI Security Solutions, Inc.) is a Nevada corporation based in New York. Questions have arisen concerning the adequacy and accuracy of press releases concerning the company's operations and financing transactions.

15. Prime Star Group, Inc. is a Nevada corporation based in Nevada. Questions have arisen concerning the adequacy and accuracy of press releases concerning the company's operations.

16. Solar Park Initiatives, Inc. is a Nevada corporation based in Florida. Questions have arisen concerning the adequacy and accuracy of press releases concerning the company's operations and revenues.

17. United States Oil & Gas Corporation is a Delaware corporation based in Texas. Questions have arisen concerning the adequacy and accuracy of press releases concerning the company's operations and stock promoting activity by the company.

The Commission is of the opinion that the public interest and the protection of investors require a suspension of trading in the securities of the above-listed companies.

Therefore, it is ordered, pursuant to Section 12(k) of the Securities Exchange Act of 1934, that trading in the securities of the above-listed companies is suspended for the period from 9:30 a.m. E.D.T., on June 7, 2011 through 11:59 p.m. E.D.T., on June 20, 2011.

By the Commission.
Elizabeth M. Murphy,
Secretary.

[FR Doc. 2011-14408 Filed 6-7-11; 11:15 am]

BILLING CODE 8011-01-P